DEPARTMENT OF THE INTERIOR

Central Utah Project Completion Act

AGENCY: Department of the Interior, Office of the Assistant Secretary—Water and Science.

ACTION: Notice of Availability, Draft Environmental Assessment (DEA), Hobble Creek Stream Restoration, Utah County, UT.

SUMMARY: Pursuant to Section 102(2)(c) of the National Environmental Policy Act of 1969, as amended, the Central Utah Project Completion Act Office proposes to relocate, and restore natural stream sinuosity, and fisheries habitat, in Hobble Creek, a tributary to Utah Lake in Utah County, Utah, to assist recovery of the endangered June sucker fish (Chasmistes liorus). This project has been planned in cooperation with the June Sucker Recovery Implementation Program (JSRIP).

A Proposed Action and No Action Alternative are evaluated in the DEA. Under the Proposed Action, approximately the last one mile of Hobble Creek, where it enters Utah Lake, will be relocated onto property owned by the State of Utah. The project will improve the hydrology of the stream, open the upper reaches of Hobble Creek to spawning June sucker, which currently exist in Utah Lake. As part of the project, adjacent wetlands and connecting side channels will be constructed on the property to create backwater habitat for survival and rearing of larval stages of June sucker produced in the creek. After construction, the project lands would be managed by the Utah Division of Wildlife Resources for protection of wetlands and conservation of the June sucker. The Utah Transit Authority, State of Utah, and the U.S. Fish and Wildlife Service are cooperating agencies in the NEPA process.

DATES: The DEA will be available for public review and comment for a minimum of thirty (30) calendar days following the publication of this notice. The deadline for submittal of written comments on the DEA will be stated on the cover sheet of the document and noted in the transmittal letter to all reviewers.

Comments on the DEA may also be presented verbally, or in writing, at a public meeting to be held in the vicinity of the project. At this meeting the Lead Agency will present the evaluation of environmental impacts and provide additional opportunity for public comment on the project. The place, date, and time of public meeting will be noted in the transmittal letter to all reviewers and announced in local newspapers.

The public meeting will be held Thursday, June 26, 2008, at Bureau of Reclamation, 302 East 1860 South, Provo, Utah 84606 starting at 6 p.m.

ADDRESSES: Comments on the DEA should be addressed to: Mr. Reed R. Murray, Central Utah Project Completion Act Office, 302 East 1860 South, Provo, Utah 84606 or E-mail to rswanson@uc.usbr.gov.

FOR FURTHER INFORMATION CONTACT: Copies of the Draft EA can be obtained by contacting Mr. Ralph G. Swanson at the address above, by calling 801-379-1254 or at rswanson@uc.usbr.gov.

Copies of the DEA are also available for inspection at:

Springville City Library, 50 South Main, Springville, Utah 84663;

Department of the Interior, Central Utah Project Completion Act Office, 302 East 1860 South, Provo, Utah 84606.

In addition, the complete text of the document is available at the JSRIP Web site at http://www.junesuckerrecovery.org or the Utah Transit Authority Web site at http://www.rideuta.com.

Information on other matters related to this notice may be obtained by calling or writing Mr. Ralph G. Swanson, Program Coordinator, CUP Completion Act Office, Department of the Interior, 302 East 1860 South, Provo, UT 84606-6154, (801) 379-1254, E-mail address, rswanson@uc.usbr.gov.

SUPPLEMENTARY INFORMATION: Before including your name, address, phone number, e-mail address, or other personal identifying information in your comment, you should be aware that your entire comment—including your personal identifying information—may be made publicly available at any time. While you can ask us in your comment to withhold your personal identifying information from public review, we cannot guarantee that we will be able to do so.

Reed R. Murray,
CUP Program Director, Department of the Interior.

[FR Doc. E8-12672 Filed 6-5-08; 8:45 am]

BILLING CODE 4310-RK-P